SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1, 2012, through February 29, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. EXCO Resources (PA), LLC, Pad ID: Warner North Unit Pad, ABR-201202001, Penn Township, Lycoming County, Pa.; Consumptive Use of Up to 8.000 mgd; Approval Date: February 6, 2012.

2. SWEPI LP, Pad ID: Smith 260, ABR-201202002, Jackson Township, Tioga County, Pa.; Consumptive Use of Up to 4.000 mgd; Approval Date: February 6, 2012.

3. EXCO Resources (PA), LLC, Pad ID: Spotts Unit Drilling Pad 3H, 4H, 5H, 7H, 8H, 9H, ABR-201202003, Mifflin Township, Lycoming County, Pa.; Consumptive Use of Up to 8.000 mgd; Approval Date: February 6, 2012.

4. Chief Oil & Gas, LLC, Pad ID: Wright A Drilling Pad #1, ABR-201202004, Canton Township, Bradford County, Pa.; Consumptive Use of Up to 2.000 mgd; Approval Date: February 6, 2012.

5. Southwestern Energy Production Company, Pad ID: ASNIP-ABODE, ABR-201202005, Orwell Township, Bradford County, Pa.; Consumptive Use of Up to 4.999 mgd; Approval Date: February 8, 2012.

6. Chesapeake Appalachia, LLC, Pad ID: Schlapfer, ABR-201202006, Albany Township, Bradford County, Pa.; Consumptive Use of Up to 7.500 mgd; Approval Date: February 13, 2012.

7. Chesapeake Appalachia, LLC, Pad ID: Ferraro, ABR-201202007, Terry Township, Bradford County, Pa.; Consumptive Use of Up to 7.500 mgd; Approval Date: February 13, 2012.

8. Chesapeake Appalachia, LLC, Pad ID: Makayla, ABR-201202008, Wilmot Township, Bradford County, Pa.; Consumptive Use of Up to 7.500 mgd; Approval Date: February 13, 2012.

9. EXCO Resources (PA), LLC, Pad ID: Dale Bower East Unit Pad, ABR-201202009, Penn Township, Lycoming County, Pa.; Consumptive Use of Up to 8.000 mgd; Approval Date: February 13, 2012.

10. EXCO Resources (PA), LLC, Pad ID: Painters Den Pad 1, ABR-201202010, Davidson Township, Sullivan County, Pa.; Consumptive Use of Up to 8.000 mgd; Approval Date: February 13, 2012.

11. WPX Energy Appalachia, LLC, Pad ID: MacGeorge Well Pad, ABR-201202011, Silver Lake Township, Susquehanna County, Pa.; Consumptive Use of Up to 4.000 mgd; Approval Date: February 13, 2012.

12. Chief Oil & Gas, LLC, Pad ID: Castle A Drilling Pad #1, ABR-201202012, Canton Township, Bradford County, Pa.; Consumptive Use of Up to 2.000 mgd; Approval Date: February 13, 2012.

13. Chief Oil & Gas, LLC, Pad ID: Crandall Drilling Pad #1, ABR-201202013, Ridgebury Township, Bradford County, Pa.; Consumptive Use of Up to 2.000 mgd; Approval Date: February 13, 2012.

14. Chief Oil & Gas, LLC, Pad ID: L & L Construction A Drilling Pad #1, ABR-201202014, Wilmot Township, Bradford County, Pa.; Consumptive Use of Up to 2.000 mgd; Approval Date: February 13, 2012.

15. Southwestern Energy Production Company, Pad ID: FIELDS PAD 1, ABR-201202015, Herrick Township, Bradford County, Pa.; Consumptive Use of Up to 4.999 mgd; Approval Date: February 28, 2012.

16. Southwestern Energy Production Company, Pad ID: PEASE, ABR-201202016, Jackson Township, Susquehanna County, Pa.; Consumptive Use of Up to 4.999 mgd; Approval Date: February 28, 2012.

17. Range Resources—Appalachia, LLC, Pad ID: Bobst Mtn Hunting Club 30H-33H, ABR-201202017, Cogan House Township, Lycoming County, Pa.; Consumptive Use of Up to 5.000 mgd; Approval Date: February 17, 2012.

18. Range Resources—Appalachia, LLC, Pad ID: Bobst Mtn Hunting Club 24H-29H, ABR-201202018, Cogan House Township, Lycoming County, Pa.; Consumptive Use of Up to 5.000 mgd; Approval Date: February 17, 2012.

19. Chesapeake Appalachia, LLC, Pad ID: Moyer, ABR-201202019, Overton Township, Bradford County, Pa.; Consumptive Use of Up to 7.500 mgd; Approval Date: February 17, 2012.

20. Chesapeake Appalachia, LLC, Pad ID: Yadpad, ABR-201202020, Wilmot Township, Bradford County, Pa.; Consumptive Use of Up to 7.500 mgd; Approval Date: February 17, 2012.

21. Chesapeake Appalachia, LLC, Pad ID: Maple Ln Farms, ABR-201202021, Athens Township, Bradford County, Pa.; Consumptive Use of Up to 7.500 mgd; Approval Date: February 21, 2012.

22. Chesapeake Appalachia, LLC, Pad ID: CPD, ABR-201202022, Athens Township, Bradford County, Pa.; Consumptive Use of Up to 7.500 mgd; Approval Date: February 21, 2012.

23. Chesapeake Appalachia, LLC, Pad ID: Bumpville, ABR-201202023, Litchfield Township, Bradford County, Pa.; Consumptive Use of Up to 7.500 mgd; Approval Date: February 21, 2012.

24. XTO Energy Incorporated, Pad ID: Everbe Farms Unit B, ABR-201202024, Franklin Township, Lycoming County, Pa.; Consumptive Use of Up to 4.000 mgd; Approval Date: February 21, 2012.

25. EXCO Resources (PA), LLC, Pad ID: Dunwoody Pad, ABR-201202025, Plunketts Creek Township, Lycoming County, Pa.; Consumptive Use of Up to 8.000 mgd; Approval Date: February 24, 2012.

26. WPX Energy Appalachia, LLC, Pad ID: Conaty Well Pad, ABR-201202026, Silver Lake Township, Susquehanna County, Pa.; Consumptive Use of Up to 4.000 mgd; Approval Date: February 24, 2012.

27. EXCO Resources (PA), LLC, Pad ID: Snyder Unit #1, ABR-20090430.1, Franklin Township, Lycoming County, Pa.; Consumptive Use of Up to 8.000 mgd; Approval Date: February 27, 2012.

28. Chief Oil & Gas, LLC, Pad ID: Muzzy Drilling Pad #1, ABR-201202027, Ulster Township, Bradford County, Pa.; Consumptive Use of Up to 2.000 mgd; Approval Date: February 27, 2012.

29. Southwestern Energy Production Company, Pad ID: WATTS, ABR-201202028, New Milford Township, Susquehanna County, Pa.; Consumptive Use of Up to 4.999 mgd; Approval Date: February 28, 2012.

30. WPX Energy Appalachia, LLC, Pad ID: Wilkes Well Pad, ABR-201202029, Silver Lake Township, Susquehanna County, Pa.; Consumptive Use of Up to 4.000 mgd; Approval Date: February 29, 2012.

31. SWEPI LP, Pad ID: Kreitzer 505, ABR-201202030, Rutland Township, Tioga County, Pa.; Consumptive Use of Up to 4.000 mgd; Approval Date: February 29, 2012.

Authority: Pub. L. 91-575, 84 Stat. 1509 et seq., 18 CFR parts 806, 807, and 808.

Dated: March 29, 2012.
Stephanie L. Richardson,
Secretary to the Commission.

[FR Doc. 2012-8465 Filed 4-6-12; 8:45 am]

BILLING CODE 7040-01-P